DEPARTMENT OF THE TREASURY

Office of Foreign Assets Control

Publication of General Licenses Related to the Burma Sanctions Program

AGENCY: Office of Foreign Assets Control, Treasury.

ACTION: Notice, publication of general licenses.

SUMMARY: The Office of Foreign Assets Control (“OFAC”) of the U.S. Department of the Treasury is publishing General License No. 16 and General License No. 17 issued under the Burma sanctions program on July 11, 2012. General License No. 16 authorizes the exportation or reexportation of financial services to Burma, subject to certain limitations. General License No. 17 authorizes new investment in Burma, subject to certain limitations and requirements.

DATES: Effective Date: July 11, 2012.

FOR FURTHER INFORMATION CONTACT: Assistant Director for Sanctions Compliance & Evaluation, tel.: 202-622-2490, Assistant Director for Licensing, tel.: 202-622-2480, Assistant Director for Policy, tel.: 202-622-4855, Office of Foreign Assets Control, or Chief Counsel (Foreign Assets Control), tel.: 202-622-2410, Office of the General Counsel, Department of the Treasury (not toll free numbers).

SUPPLEMENTARY INFORMATION:

Electronic and Facsimile Availability

This document and additional information concerning OFAC are available from OFAC's Web site (www.treasury.gov/ofac). Certain general information pertaining to OFAC's sanctions programs also is available via facsimile through a 24-hour fax-on-demand service, tel.: 202-622-0077.

Background

On July 11, 2012, OFAC issued General License No. 16 authorizing the exportation or reexportation of financial services to Burma, directly or indirectly, from the United States or by a U.S. person, wherever located, subject to certain limitations. Also on July 11, 2012, OFAC issued General License No. 17 authorizing new investment in Burma by U.S. persons, subject to certain limitations and requirements.

The transactions authorized by General License No. 16 include the activities formerly authorized by General License No. 14-C, dated April 17, 2012, authorizing certain financial transactions in support of humanitarian, religious, and other not-for-profit activities in Burma, and General License No. 15, dated May 9, 2008, authorizing noncommercial, personal remittances to Burma. Accordingly, General License No. 14-C and General License No. 15 are replaced and superseded in their entirety by General License No. 16. At the time of their issuance on July 11, 2012, OFAC made General License No. 16 and General License No. 17 available on its Web site (www.treasury.gov/ofac). As of July 11, 2012, the Executive Order referenced in each of General License 16 and General License 17 had not yet been assigned a number; that Executive Order has since been assigned a number, and is Executive Order 13619 of July 11, 2012, “Blocking Property of Persons Threatening the Peace, Security, or Stability of Burma” (77 FR 41243, July 13, 2012).

With this notice, OFAC is publishing General License No. 16 and General License No. 17 in the Federal Register.

1. General License No. 16 and General License No. 17.

General License No. 16

Authorizing the Exportation or Reexportation of Financial Services to Burma

(a) The exportation or reexportation of financial services to Burma, directly or indirectly, from the United States or by a U.S. person, wherever located, is authorized, subject to the limitations set forth in paragraphs (c), (d), and (e) of this general license.

(b) For the purposes of this general license, the term exportation or reexportation of financial services to Burma is defined in 31 CFR 537.305.

(c) This general license does not authorize, in connection with the provision of security services, the exportation or reexportation of financial services, directly or indirectly, to the Burmese Ministry of Defense, including the Office of Procurement; any state or non-state armed group; or any entity in which any of the foregoing own a 50 percent or greater interest.

(d) This general license does not authorize the exportation or reexportation of financial services, directly or indirectly, to any person whose property and interests in property are blocked pursuant to 31 CFR 537.201(a), Executive Order 13448 of October 18, 2007, Executive Order 13464 of April 30, 2008, or Executive Order ___ of July 11, 2012,¹ except that transfers of funds pursuant to paragraph (a) of this general license are authorized even though they may involve transfers to or from an account of a financial institution whose property and interests in property are blocked pursuant to those authorities, provided that the account is not on the books of a financial institution that is a U.S. person.

¹ Blocking Property of Persons Threatening the Peace, Security, or Stability of Burma.

(e) This general license does not authorize any debit to a blocked account.

(f) General License No. 14-C and General License No. 15 are hereby replaced and superseded in their entirety by this general license. The transactions authorized by this General License No. 16 include the activities formerly authorized by General License No. 14-C, dated April 17, 2012, authorizing certain financial transactions in support of humanitarian, religious, and other not-for-profit activities in Burma, and General License No. 15, dated May 9, 2008, authorizing noncommercial, personal remittances to Burma.

Issued: July 11, 2012.

General License No. 17

Authorizing New Investment in Burma

(a) New investment in Burma by U.S. persons is authorized, subject to the limitations and requirements set forth in paragraphs (c), (d), and (e) of this general license.

(b) For the purposes of this general license, the term new investment is defined in 31 CFR 537.311. See also 31 CFR 537.302 and 537.316.

(c) This general license does not authorize new investment undertaken pursuant to an agreement, or pursuant to the exercise of rights under such an agreement, that is entered into with the Burmese Ministry of Defense, including the Office of Procurement; any state or non-state armed group; or any entity in which any of the foregoing own a 50 percent or greater interest.

(d) This general license does not authorize transactions with, directly or indirectly, any person whose property and interests in property are blocked pursuant to 31 CFR 537.201(a), Executive Order 13448 of October 18, 2007, Executive Order 13464 of April 30, 2008, or Executive Order ___ of July 11, 2012.¹

¹ Blocking Property of Persons Threatening the Peace, Security, or Stability of Burma.

(e) Any U.S. person engaging in new investment in Burma pursuant to this general license shall report to the Department of State in compliance with the requirements set forth in the Department of State's “Reporting Requirements on Responsible Investment in Burma,” available at www.HumanRights.gov/BurmaResponsibleInvestment.

Issued: July 11, 2012.

2. General License No. 14-C and General License No. 15 are replaced and superseded in their entirety.

General License No. 14-C

Authorizing Certain Financial Transactions in Support of Humanitarian, Religious, and Other Not-for-Profit Activities in Burma

(a) Amended General License No. 14-B, dated December 2, 2008, is replaced and superseded in its entirety by this General License No. 14-C.

(b) Subject to the limitations set forth in paragraph (c) of this general license, the exportation and reexportation of financial services to Burma not otherwise authorized by 31 CFR 537.518 and in support of the following not-for-profit activities is authorized:

(1) Projects to meet basic human needs in Burma, including, but not limited to, disaster relief; assistance to refugees, internally displaced persons, and conflict victims; the distribution of food, clothing, medicine, and medical equipment intended to be used to relieve human suffering; the provision of health-related services; and the provision of shelter, and clean water, sanitation, and hygiene assistance;

(2) Democracy building and good governance in Burma, including, but not limited to, rule of law, citizen participation, government accountability, conflict resolution, public policy advice, and civil society development projects;

(3) Educational activities in Burma, including, but not limited to, combating illiteracy; increasing access to education at the elementary, high school, vocational, technical, college, or university level; foreign language instruction; and assisting education reform projects at all levels;

(4) Sporting activities in Burma, including, but not limited to, amateur sporting events, activities promoting physical health and exercise, and the construction and maintenance of sports facilities open to the Burmese public;

(5) Non-commercial development projects directly benefiting the Burmese people, including, but not limited to, preventing infectious disease; promoting maternal/child health, animal husbandry, food security, and sustainable agriculture; conservation of endangered species of fauna and flora and their supporting natural habitats; and the construction and maintenance of schools, libraries, medical clinics, hospitals, and other infrastructure necessary to support the aforementioned non-commercial development projects; and

(6) Religious activities, including, but not limited to, religious education and training, including the training of missionaries; the establishment and maintenance of congregations; and the construction and improvement of houses of worship, schools, seminaries, and orphanages.

(c) This general license does not authorize the exportation or reexportation of financial services to or for the benefit of any person whose property and interests in property are blocked pursuant to 31 CFR 537.201(a), Executive Order 13448 of October 18, 2007, or Executive Order 13464 of April 30, 2008.

Note to General License No. 14-C: Please note that all other transactions otherwise prohibited by 31 CFR 537.201 and 537.202 that are ordinarily incident to an exportation to Burma of goods, technology or services other than financial services, are authorized pursuant to 31 CFR 537.518, subject to certain conditions.

Issued: April 17, 2012.

General License No. 15

Noncommercial, Personal Remittances to Burma Authorized

(a)(1) U.S. depository institutions, U.S. registered brokers or dealers in securities, and U.S. registered money transmitters are authorized to process transfers of funds to or from Burma or for or on behalf of an individual ordinarily resident in Burma in cases in which the transfer involves a noncommercial, personal remittance, provided that, except as set forth in paragraph (a)(2), the transfer is not by, to, or through a person whose property and interests in property are blocked pursuant to 31 CFR 537.201(a), Executive Order 13448 of October 18, 2007 (72 FR 60223, October 23, 2007) (“E.O. 13448”), or Executive Order 13464 of April 30, 2008 (73 FR 24491, May 2, 2008) (“E.O. 13464”).

(2) Transfers of funds pursuant to paragraph (a)(1) of this general license are authorized even though they may involve transfers to or from an account of a financial institution whose property and interests in property are blocked pursuant to 31 CFR 537.201(a), E.O. 13448, or E.O. 13464, provided that the account is not on the books of a financial institution that is a U.S. person.

(3) Noncommercial, personal remittances do not include (i) charitable donations to or for the benefit of any entity or (ii) funds transfers for use in supporting or operating a business.

Note to Paragraph (a)(3) of General License No. 15: U.S. persons may make charitable donations to nongovernmental organizations in support of certain activities in Burma, provided that the donations are made pursuant to Amended General License No. 14.

(b) The transferring institutions identified in paragraph (a) of this general license may rely on the originator of a funds transfer with regard to compliance with paragraph (a) of this general license, provided that the transferring institution does not know or have reason to know that the funds transfer is not in compliance with paragraph (a) of this general license.

(c) Except as set forth in paragraph (a)(2) above, this general license does not authorize transactions with respect to property blocked pursuant to 31 CFR 537.201, E.O. 13448, or E.O. 13464.

Issued: May 9, 2008.
Dated: August 3, 2012.
Adam J. Szubin,
Director, Office of Foreign Assets Control.

[FR Doc. 2012-19660 Filed 8-9-12; 8:45 am]

BILLING CODE 4810-AL-P